DEPARTMENT OF LABOR

Employment and Training Administration

[TA-W-50,109]

Creative Mold Co. LLC, Auburn, ME; Notice of Termination of Investigation

Pursuant to section 221 of the Trade Act of 1974, an investigation was initiated on November 18, 2002, in response to a worker petition filed by a company official on behalf of workers at Creative Mold Co. LLC, Auburn, Maine.

The petitioner has requested that the petition be withdrawn. Consequently, further investigation in this case would serve no purpose, and the investigation has been terminated.

Signed in Washington, DC this 14th day of January 2003.
Richard Church,
Certifying Officer, Division of Trade Adjustment Assistance.

[FR Doc. 03-2550 Filed 2-3-03; 8:45 am]

BILLING CODE 4510-30-P